DEPARTMENT OF THE INTERIOR

Fish and Wildlife Service

50 CFR Part 17

[Docket No. FWS-R5-ES-2011-0024; 4500030113]

RIN 1018-AY98

Endangered and Threatened Wildlife and Plants; 6-Month Extension of Final Determination on the Proposed Endangered Status for the Northern Long-Eared Bat

AGENCY: Fish and Wildlife Service, Interior.

ACTION: Proposed rule; reopening of the comment period.

SUMMARY: We, the U.S. Fish and Wildlife Service (Service), announce a 6-month extension of the final determination of whether to list the northern long-eared bat (Myotis septentrionalis) as endangered. We also reopen the comment period on the proposed rule to list the species. We are taking this action based on substantial disagreement regarding the sufficiency or accuracy of the available data relevant to our determination regarding the proposed listing, making it necessary to solicit additional information by reopening the comment period for 60 days. Comments previously submitted need not be resubmitted as they are already incorporated into the public record and will be fully considered in the final rule. We will publish a listing determination on or before April 2, 2015.

DATES: The comment period end date is August 29, 2014. If you comment using the Federal eRulemaking Portal (see ADDRESSES), you must submit your comments by 11:59 p.m. Eastern Time on the closing date.

ADDRESSES: You may submit comments by one of the following methods:

(1) Electronically: Go to the Federal eRulemaking Portal: http://www.regulations.gov. In the Search box, enter Docket No. FWS-R5-ES-2011-0024, which is the docket number for this rulemaking. Then, in the Search panel on the left side of the screen, under the Document Type heading, click on the Proposed Rules link to locate this document. You may submit a comment by clicking on “Comment Now!” If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail to: Public Comments Processing, Attn: FWS-R5-ES-2011-0024; Division of Policy and Directives Management; U.S. Fish and Wildlife Service; 4401 N. Fairfax Drive, MS 2042-PDM; Arlington, VA 22203.

We request that you send comments only by the methods described above. We will post all information received on http://www.regulations.gov. This generally means that we will post any personal information you provide us (see the Information Requested section, below, for more details).

FOR FURTHER INFORMATION CONTACT: Lisa Mandell, Deputy Field Supervisor, U.S. Fish and Wildlife Service, Twin Cities Ecological Services Office, 4101 American Blvd. East, Bloomington, MN 55425; telephone (612) 725-3548, ext. 2201; or facsimile (612) 725-3609. If you use a telecommunications device for the deaf (TDD), please call the Federal Information Relay Service (FIRS) at 800-877-8339.

SUPPLEMENTARY INFORMATION:

Background

On October 2, 2013, we published a proposed rule to list the northern long-eared bat as an endangered species (78 FR 61046) under the Endangered Species Act of 1973, as amended (Act; 16 U.S.C. 1531 et seq.). That proposal had a 60-day comment period, ending December 2, 2013. On December 2, 2013, we extended the proposal's comment period for an additional 30 days, ending January 2, 2014 (78 FR 72058). For a description of previous Federal actions concerning the northern long-eared bat, please refer to the October 2, 2013, proposed listing rule. We also solicited and received independent scientific review of the information contained in the proposed rule from peer reviewers with expertise in the northern long-eared bat or similar species biology, in accordance with our July 1, 1994, peer review policy (59 FR 34270).

Section 4(b)(6) of the Act and its implementing regulations at 50 CFR 424.17(a) require that we take one of three actions within 1 year of a proposed listing and concurrent proposed designation of critical habitat: (1) Finalize the proposed rule; (2) withdraw the proposed rule; or (3) extend the final determination by not more than 6 months, if there is substantial disagreement regarding the sufficiency or accuracy of the available data relevant to the determination.

Since the publication of the October 2, 2013, proposed listing rule, there has been substantial disagreement regarding the best available science as it relates to the northern long-eared bat's current and predicted population trends and threats. Differing interpretations of the accuracy and sufficiency of the existing information on white-nose syndrome, which has been identified as the primary threat to the species, have led to disagreement regarding the current status of the species. In particular, some commenters raised questions regarding the certainty of scientific information used in the proposed listing rule. For example, some raised questions about: The probability and likely rate of white-nose syndrome spreading to currently unaffected areas; how or whether the disease will impact the northern long-eared bat in currently unaffected or recently affected areas within its range; or how existing scientific models predict such factors. Some commenters stated that some portions of the species' range where white-nose syndrome has been present in hibernacula for several years have yet to see declines in the species' numbers similar to what was observed in the Northeast.

There is substantial scientific uncertainty and disagreement about the Service's analysis or interpretation of the data, specifically in how and to what extent white-nose syndrome will spread and affect the northern-long eared bat across its range, which has a bearing on our listing determination. As a result of these comments, we find that there is substantial disagreement regarding the sufficiency or accuracy of the available data relevant to our listing determination. Therefore, in consideration of these disagreements, we have determined that a 6-month extension of the final determination for this rulemaking is necessary, and we are hereby extending the final determination for 6 months in order to solicit and consider information that will help to clarify these issues and to fully analyze information regarding available data that are relevant to our final listing determination. With this 6-month extension, we will make a final determination on the proposed rule no later than April 2, 2015.

Information Requested

We will accept written comments and information during this reopened comment period on our proposed listing for the northern long-eared bat that was published in the Federal Register on October 2, 2013 (78 FR 61046). We will consider information and recommendations from all interested parties. We intend that any final action resulting from the proposal be as accurate as possible and based on the best available scientific and commercial data.

In consideration of the scientific disagreements about the data used to support the proposed rulemaking, we are particularly interested in new information and comment regarding:

(1) Whether we have appropriately interpreted the scientific studies cited in the proposed rule, and whether there is additional scientific information not considered in the proposal.

(2) Northern long-eared bat population trends in each State or rangewide.

(3) Information pertaining to white-nose syndrome, specifically:

(a) The predicted probability that white-nose syndrome will spread to currently unaffected areas;

(b) The predicted rate of white-nose syndrome spreading to currently unaffected areas;

(c) The magnitude of impacts specifically to the northern long-eared bat from white-nose syndrome, both in affected and currently unaffected areas; and

(d) The timeframe of response to white-nose syndrome in recently affected or currently unaffected areas.

(4) Conservation efforts for the northern long-eared bat that are planned or currently being implemented that were not already stated in comments submitted during the previous comment period.

If you previously submitted comments or information on the proposed rule, please do not resubmit them. We have incorporated previously submitted comments into the public record, and we will fully consider them in the preparation of our final determination. Our final determination concerning the proposed listing will take into consideration all written comments and any additional information we receive.

You may submit your comments and materials concerning the proposed rule by one of the methods listed in the ADDRESSES section above. We request that you send comments only by the methods described in the ADDRESSES section.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, will be available for public inspection on http://www.regulations.gov, or by appointment, during normal business hours, at the U.S. Fish and Wildlife Service, Twin Cities Ecological Services Office (see FOR FURTHER INFORMATION CONTACT). You may obtain copies of the proposed rule on the Internet at http://www.regulations.gov at Docket No. FWS-R5-ES-2011-0024. Copies of the proposed rule are also available at http://www.fws.gov/midwest/Endangered/mammals/nlba/index.html.

Authority

The authority for this action is the Endangered Species Act of 1973, as amended (16 U.S.C. 1531 et seq.).

Dated: June 19, 2014.
Stephen Guertin,
Acting Director, U.S. Fish and Wildlife Service.

[FR Doc. 2014-15213 Filed 6-27-14; 8:45 am]

BILLING CODE 4310-55-P